JUDICIAL CONFERENCE OF THE UNITED STATES

Advisory Committee on Criminal Rules; Meeting of the Judicial Conference

AGENCY: Judicial Conference of the United States.

ACTION: Advisory Committee on Criminal Rules; revised notice of open meeting.

SUMMARY: The Advisory Committee on Criminal Rules will hold a meeting in Washington, DC on November 4, 2021 rather than in San Diego as previously announced. The meeting is open to the public for observation but not participation. An agenda and supporting materials will be posted at least 7 days in advance of the meeting at: http://www.uscourts.gov/rules-policies/records-and-archives-rules-committees/agenda-books. The announcement for this meeting was previously published in the Federal Register on June 28, 2021.

DATES: November 4, 2021.

FOR FURTHER INFORMATION CONTACT: Scott Myers, Esq., Acting Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073)

Dated: September 23, 2021.
Shelly L. Cox,
Management Analyst, Rules Committee Staff.

[FR Doc. 2021-21073 Filed 9-28-21; 8:45 am]

BILLING CODE 2210-55-P